DEPARTMENT OF JUSTICE

Antitrust Division

Notice Pursuant to the National Cooperative Research and Production Act of 1993—Pistoia Alliance, Inc.

Notice is hereby given that, on May 12, 2025, pursuant to section 6(a) of the National Cooperative Research and Production Act of 1993, 15 U.S.C. 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Heiter, Orinda, CA; Matriqx, Great Shelford, UNITED KINGDOM; ThoughtWorks, Inc., Chicago, IL; Lonza, Basel, SWISS CONFEDERATION; MAIN5, Frankfurt Am Main, FEDERAL REPUBLIC OF GERMANY; The Chan Zuckerberg Initiative, Redwood City, CA; Solid Compass, Guildford, UNITED KINGDOM; Lonza Pharma & Biotech, Basel, SWISS CONFEDERATION; H. Lundbeck A/S, Copenhagen, KINGDOM OF DENMARK; John Hollerton (individual member), St Albans, UNITED KINGDOM; and Kirk Brote (individual member), Durham, NV have joined as parties to this venture.

Also, Nagarro, Munich, FEDERAL REPUBLIC OF GERMANY; Aitia, Somerville, MA; Syneos Health, Morrisville, NC; Bioteam, Middleton, MA; and BioNTech SE, Mainz, FEDERAL REPUBLIC OF GERMANY have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to section 6(a) of the Act. The Department of Justice published a notice in the Federal Register pursuant to section 6(b) of the Act on July 15, 2009 (74 FR 34364).

The last notification was filed with the Department on February 12, 2025. The Department of Justice published a notice in the Federal Register pursuant to section 6(b) of the Act on March 7, 2025 (90 FR 11552).

Suzanne Morris,
Deputy Director Civil Enforcement Operations, Antitrust Division.

[FR Doc. 2025-10571 Filed 6-10-25; 8:45 am]

BILLING CODE P